SECURITIES AND EXCHANGE COMMISSION

[Release No. 34-46702; File No. SR-Amex-2002-47]

Self-Regulatory Organizations; Order Approving Proposed Rule Change and Amendment Nos. 1 and 2 and Notice of Filing and Order Granting Accelerated Approval of Amendment No. 3 by the American Stock Exchange LLC Relating to Non-Member Fees for Transactions in Nasdaq Securities Traded on an Unlisted Basis

October 22, 2002.

On June 3, 2002, the American Stock Exchange LLC (“Amex” or “Exchange”) filed with the Securities and Exchange Commission (“SEC” or “Commission”) the proposed rule change pursuant to section 19(b)(1) of the Securities Exchange Act of 1934 (“Act”),¹ and Rule 19b-4 thereunder.² Amex filed Amendment No. 1 on June 11, 2002,³ and Amendment No. 2 on August 27, 2002.⁴ The proposed rule change, as amended, was noticed in the Federal Register on September 17, 2002.⁵ On October 3, 2002, Amex filed Amendment No. 3 to the proposed rule change.⁶ The Commission is publishing this notice to approve the proposed rule change, as amended, and solicit comments on Amendment No. 3 from interested persons.⁷

¹ 15 U.S.C. 78s(b)(1).

² 17 CFR 240.19b-4.

³ See letter from William Floyd-Jones, Assistant General Counsel, Amex, to Katherine England, Esq., Assistant Director, Office of Market Supervision (“Market Supervision”), Commission (June 10, 2002).

⁴ See letter from William Floyd-Jones, Assistant General Counsel, Amex, to Katherine England, Esq., Assistant Director, Market Supervision, Commission (Aug. 26, 2002).

⁵ See Securities and Exchange Act Release No. 46483 (Sept. 10, 2002), 67 FR 58658 (Sept. 17, 2002).

⁶ Amex filed Amendment No. 3 to provide that the Amex will begin to assess the proposed non-member transaction fees as of the trade date October 1, 2002. See letter from William Floyd-Jones, Assistant General Counsel, Amex, to Katherine England, Esq., Assistant Director, Market Supervision, Commission (October 1, 2002) (“Amendment No. 3”).

⁷ SR-Amex-2002-59 implements these same fees for members. See Securities Exchange Act Release No. 46484 (Sept. 10, 2002), 67 FR 58659 (Sept. 17, 2002).

I. Description

The Amex proposes to adopt transaction fees for non-member trades in The Nasdaq Stock Market, Inc. (“Nasdaq”) securities admitted to dealings on an unlisted basis. Accordingly, the Exchange is implementing a separate fee schedule for transactions in Nasdaq securities admitted to dealings so that the Amex can be competitive with other market centers that trade Nasdaq securities. According to the Exchange, the proposed fees are in line with similar fees charged by other market centers for transactions in Nasdaq securities.

II. Commission Findings

The Commission finds that the proposed rule change, as amended, is consistent with section 6(b) of the Act ⁸ in general and furthers the objectives of Section 6(b) ⁹ in particular in that it is designed to provide for the equitable allocation of reasonable dues, fees, and other charges among its members, issuers and other persons using its facilities. The Amex will assess the same fees to both members and non-members equally. The Commission also finds good cause for approving proposed Amendment No. 3 prior to the thirtieth day after the date for publication of notice of filing thereof in the Federal Register. Amendment No. 3 will permit the Amex to begin to assess the proposed non-member transaction fees as of the trade date October 1, 2002, so that these fees will begin to be assessed at the same time as the Exchange begins to assess its member transaction fees.

⁸ 15 U.S.C. 78f(b).

⁹ 15 U.S.C. 78f(b)(4).

III. Solicitation of Comments

Interested persons are invited to submit written data, views and arguments concerning Amendment No. 3, including whether Amendment No. 3 of the proposed rule change is consistent with the Act. Persons making written submissions should file six copies thereof with the Secretary, Securities and Exchange Commission, 450 Fifth Street, NW., Washington, DC 20549-0609. Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room. Copies of such filing will also be available for inspection and copying at the principal office of the Exchange. All submissions should refer to File No. SR-Amex-2002-47 and should be submitted by November 18, 2002.

IV. Conclusion

It is therefore ordered, pursuant to section 19(b)(2) of the Act,¹⁰ that the proposed rule change (SR-Amex-2002-47), as amended, is hereby approved.

¹⁰ 15 U.S.C. 78s(b)(2).

For the Commission, by the Division of Market Regulation, pursuant to delegated authority.¹¹
¹¹ 17 CFR 200.30-3(a)(12).
Margaret H. McFarland,
Deputy Secretary.

[FR Doc. 02-27350 Filed 10-25-02; 8:45 am]

BILLING CODE 8010-01-P